DEPARTMENT OF THE INTERIOR

Fish and Wildlife Service

[FWS-R4-ES-2019-N158; FXES11140400000-190-FF04EF2000]

Receipt of Incidental Take Permit Application and Proposed Habitat Conservation Plan for the Sand Skink, Blue-Tailed Mole Skink, Eastern Indigo Snake, and Gopher Tortoise; Polk County, FL; Categorical Exclusion

AGENCY: Fish and Wildlife Service, Interior.

ACTION: Notice of availability; request for comment and information.

SUMMARY: We, the Fish and Wildlife Service (Service), announce receipt of an application from Vulcan Industries, Florida Rock Division, doing business as Florida Rock Industries, Inc. (applicant) for an incidental take permit (ITP) under the Endangered Species Act. The applicant requests the ITP to take the federally listed sand skink, blue-tailed mole skink, and eastern indigo snake and also the gopher tortoise, which is a candidate for Federal listing, incidental to land clearing and excavation of sand in Polk County, Florida. We request public comment on the application, which includes the applicant's proposed habitat conservation plan (HCP), and the Service's preliminary determination that this HCP qualifies as “low-effect,” categorically excluded, under the National Environmental Policy Act. To make this determination, we used our environmental action statement and low-effect screening form, both of which are also available for public review.

DATES: We must receive your written comments by December 9, 2019.

ADDRESSES:

Obtaining Documents: You may obtain copies of the documents by any of the following methods:

• Telephone: Elizabeth Landrum, 772-469-4304.

• Email: Elizabeth_landrum@fws.gov.

• U.S. mail: Elizabeth Landrum, South Florida Ecological Services Field Office, Attn. Vulcan Industries Permit TE16399D-0, U.S. Fish and Wildlife Service, 1339 20th Street, Vero Beach, FL 32960-3559.

• In-person: The documents may be reviewed by appointment during normal business hours at the above address. Please call to make an appointment.

• Fax: Elizabeth Landrum, 772-562-4288, Attn.: Permit number “TE16399D-0.”

Submitting Comments: If you wish to submit comments on any of the documents, you may do so in writing via the above email address, U.S. mail address, or fax number, or you may hand-deliver comments to the above address during regular business hours.

FOR FURTHER INFORMATION CONTACT: Elizabeth Landrum, by U.S. mail (see ADDRESSES) or via phone at 772-469-4304. Individuals who are hearing impaired or speech impaired may call the Federal Relay Service at 800-877-8339 for TTY assistance.

SUPPLEMENTARY INFORMATION: We, the Fish and Wildlife Service, announce receipt of an application from Vulcan Industries, Florida Rock Division, doing business as Florida Rock Industries, Inc. (applicant) for an incidental take permit (ITP) under the Endangered Species Act of 1973, as amended (ESA; 16 U.S.C. 1531 et seq.). The applicant requests the ITP to take the federally listed sand skink (Neoseps reynoldsi), blue-tailed mole skink (Eumeces egregius lividus), and eastern indigo snake (Drymarchon corais couperi), and also one candidate for Federal listing, the gopher tortoise (Gopherus polyphemus) (covered species), incidental to land clearing and sand mining (project) in Polk County, Florida. We request public comment on the application, which includes the applicant's proposed habitat conservation plan (HCP), and the Service's preliminary determination that this HCP qualifies as “low-effect,” categorically excluded under the National Environmental Policy Act (NEPA; 42 U.S.C. 4321 et seq.). To make this determination, we used our environmental action statement and low-effect screening form, both of which are also available for public review.

Project

The applicant requests a 20-year ITP to take the covered species incidental to the clearing of vegetation, grading, construction of berms and access roads, and the excavation and removal of sand within a 314.56-acre (ac) parcel in Sections 29, 30, and 32, Township 29S, Range 28E, Polk County, Florida. The applicant will take approximately 246.14 ac of occupied skink habitat, 250 ac of occupied indigo snake habitat, and 249.2 ac of occupied gopher tortoise habitat within the parcel. The project will be implemented in phases.

Prior to each phase, skink and gopher tortoise surveys will be conducted along with permitting and relocation, when necessary, in accordance with Florida Fish and Wildlife Conservation Commission guidelines. Gopher tortoise guidelines also will be implemented as applicable prior to each phase. The applicant proposes to mitigate for take of the skinks by purchasing credits in a Service-approved conservation bank in the amounts specified by the Service. The applicant will mitigate for take of the Eastern indigo snake by contributing $180.00 to the Eastern Indigo Snake Fund (Fund) for each ac of habitat unoccupied by skinks as determined through surveys for the species. The snake also is expected to benefit from the applicant's purchase of conservation bank credits for take of the skinks. The applicant would be required to purchase the required skink credits, contribute to the Fund, and implement gopher tortoise guidelines, as applicable, prior to engaging in any phase of the project.

Public Availability of Comments

Before including your address, phone number, email address, or other personal identifying information in your comment, be aware that your entire comment—including your personal identifying information—may be made available to the public. While you may request that we withhold your personal identifying information, we cannot guarantee that we will be able to do so.

Our Preliminary Determination

The Service has made a preliminary determination that the applicant's project, including land clearing, construction of berms and access roads, excavation and removal of sand, and the proposed mitigation measures, would individually and cumulatively have a minor or negligible effect on the covered species and the environment. Therefore, we have preliminarily concluded that the ITP for this project would qualify for categorical exclusion and the HCP would be low effect under our NEPA regulations at 43 CFR 46.205 and 46.210. A low-effect HCP is one that would result in

(1) Minor or negligible effects on federally listed, proposed, and candidate species and their habitats;

(2) Minor or negligible effects on other environmental values or resources; and

(3) Impacts that, when considered together with the impacts of other past, present, and reasonably foreseeable similarly situated projects, would not over time result in significant cumulative effects to environmental values or resources.

Next Steps

The Service will evaluate the application and the comments received to determine whether to issue the requested permit. We will also conduct an intra-Service consultation pursuant to section 7 of the ESA to evaluate the effects of the proposed take. After considering the above findings, we will determine whether the permit issuance criteria of section 10(a)(1)(B) of the ESA have been met. If met, the Service will issue ITP number TE16399D-0 to the applicant.

Authority

The Service provides this notice under section 10(c) (16 U.S.C. 1539(c)) of the ESA and NEPA regulation 40 CFR 1506.6.

Roxanna Hinzman,
Field Supervisor, South Florida Ecological Services Office.

[FR Doc. 2019-24341 Filed 11-6-19; 8:45 am]

BILLING CODE 4333-15-P